DEPARTMENT OF TRANSPORTATION

Office of the Secretary

Notice of Applications for Certificates of Public Convenience and Necessity and Foreign Air Carrier Permits Filed Under Subpart B (Formerly Subpart Q) During the Week Ending February 25, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-6836.

Date Filed: February 22, 2005.

Due Date for Answers, Conforming Applications, or Motion to Modify Scope: March 15, 2005.

Description: Application of Northwest Airlines, Inc., requesting renewal of its route 668 Experimental Certificate of Public Convenience and Necessity to engage in scheduled foreign air transportation of persons, property, and mail between the United States and Kiev, Ukraine.

Docket Number: OST-1995-958.

Date Filed: February 25, 2005.

Due Date for Answers, Conforming Applications, or Motion to Modify Scope: March 18, 2005.

Description: Application of Continental Airlines, Inc., requesting renewal its Route 29 F Segment 14 authority and to amend Continental's current Route 29 F Segment 14 authority to award Continental authority to provide scheduled foreign air transportation of persons, property, and mail between a point or points in the United States via intermediate points and the coterminal points Quito and Guayaquil, Ecuador, and beyond to the extent consistent with applicable air transport agreements. Continental also asks for renewed authority to integrate its amended Route 29 F Segment 14 certificate authority with its existing certificate and exemption authority.

Renee V. Wright,
Acting Program Manager, Alternate Federal Register Liaison.

[FR Doc. 05-4846 Filed 3-10-05; 8:45 am]

BILLING CODE 4910-62-P